LIBRARY OF CONGRESS

U.S. Copyright Office

37 CFR Part 201

[Docket No. 2005-6]

Statutory Cable, Satellite, and DART License Reporting Practices

AGENCY: U.S. Copyright Office, Library of Congress.

ACTION: Notice of proposed rulemaking; extension of comment period.

SUMMARY: The United States Copyright Office is extending the deadlines for the submission of written comments in response to its December 1, 2017 notice of proposed rulemaking concerning the royalty reporting practices of cable operators under section 111 and proposed revisions to the Statement of Account forms, and on proposed amendments to the Statement of Account filing requirements.

DATES: The comment period for the notice of proposed rulemaking, published on December 1, 2017 (82 FR 56926), was extended on December 27, 2017 (82 FR 61200), and this document re-extends the comment period. Initial written comments must be received no later than 11:59 p.m. Eastern time on June 14, 2018. Written reply comments must be received no later than 11:59 p.m. Eastern time on July 6, 2018.

ADDRESSES: For reasons of government efficiency, the Copyright Office is using the regulations.gov system for the submission and posting of public comments in this proceeding. All comments are therefore to be submitted electronically through regulations.gov. Specific instructions for submitting comments are available on the Copyright Office website at https://copyright.gov/rulemaking/section111. If electronic submission of comments is not feasible due to lack of access to a computer and/or the internet, please contact the Office using the contact information below for special instructions.

FOR FURTHER INFORMATION CONTACT: Sarang V. Damle, General Counsel and Associate Register of Copyrights, by email at sdam@loc.gov, Regan A. Smith, Deputy General Counsel, by email at resm@loc.gov, or Anna Chauvet, Assistant General Counsel, by email at achau@loc.gov, or any of them by telephone at 202-707-8350.

SUPPLEMENTARY INFORMATION: On December 1, 2017, the Office issued a notice of proposed rulemaking (“NPRM”) on proposed rules governing the royalty reporting practices of cable operators under section 111 and proposed revisions to the Statement of Account forms, and on proposed amendments to the Statement of Account filing requirements.¹ After determining that meetings with interested parties might be beneficial and that reply comments would be appropriate for this rulemaking, on December 11, 2017, the Office issued a notice of ex-parte communication and request for reply comments.²

¹ 82 FR 56926 (Dec. 1, 2017).

² 82 FR 58153 (Dec. 11, 2017).

On December 27, 2017, the Office extended the period for public comments in response to a motion filed by NCTA—The Internet & Television Association (“NCTA”) to extend the initial comment period until March 16, 2018, with written comments due by April 2, 2018.³

³ 82 FR 61200 (Dec. 27, 2017); COLC-2017-0013-0003.

On March 1, 2018, NCTA submitted a motion seeking to extend the initial comment period until June 14, 2018, with written reply comments due by July 6, 2018.⁴

⁴ COLC-2017-0013-0005.

To ensure that commenters have sufficient time to respond to the NPRM, the Office is extending the deadline for the submission of initial written comments to 11:59 p.m. Eastern time on June 14, 2018. Written reply comments must be received no later than 11:59 p.m. Eastern time on July 6, 2018.

Dated: March 5, 2018.
Sarang V. Damle,
General Counsel and Associate Register of Copyrights.

[FR Doc. 2018-04644 Filed 3-7-18; 8:45 am]

BILLING CODE 1410-30-P